DEPARTMENT OF HOMELAND SECURITY

Office of the Secretary

Privacy Act of 1974; System of Records

AGENCY: Privacy Office, DHS.

ACTION: Notice of removal of a Privacy Act system of records notice.

SUMMARY: In accordance with the Privacy Act of 1974, the Department of Homeland Security is giving notice that it proposes to consolidate the following Privacy Act system of records notice, Justice/INS-025 Worksite Enforcement Activity Record and Index, October 17, 2002, into an existing Department of Homeland Security Immigration and Customs Enforcement system of records notice, External Investigations Records, December 11, 2008.

DATES: Effective Date: February 12, 2009.

FOR FURTHER INFORMATION CONTACT: Hugo Teufel III, Chief Privacy Officer, Department of Homeland Security, Washington, DC 20528, by telephone (703) 235-0780 or facsimile 703-483-2999.

SUPPLEMENTARY INFORMATION: Pursuant to the provisions of the Privacy Act of 1974, 5 U.S.C. 552a, and as part of its ongoing integration and management efforts, the Department of Homeland Security (DHS) is giving notice that it proposes to consolidate the following Privacy Act system of records notice, Justice/INS-025 Worksite Enforcement Activity Record and Index (67 FR 64136 October 17, 2002) into an existing DHS Immigration and Customs Enforcement (ICE) system of records, External Investigations Records, (73 FR 75452 December 11, 2008).

DHS inherited this records system upon its creation in January of 2003. Upon review of its inventory of record systems, DHS has determined that it should be consolidated into the existing DHS ICE External Investigation system of records.

Justice/INS-025 Worksite Enforcement Activity Record and Index was originally established to administer and enforce the employment control provisions of the Immigration and Nationality Act and related criminal statues. Additionally, the system was used to monitor and evaluate information contained on I-9 forms under inspection. The data collected by ICE pursuant to these activities are now covered by the External Investigations system of records.

Consolidating this system of records notice will have no adverse impacts on individuals, but will promote the overall streamlining and management of DHS Privacy Act record systems.

Dated: January 5, 2009.
Hugo Teufel III,
Chief Privacy Officer, Department of Homeland Security.

[FR Doc. E9-377 Filed 1-12-09; 8:45 am]

BILLING CODE 4410-10-P